DEPARTMENT OF COMMERCE

International Trade Administration

[Application No. 01-1A001]

Export Trade Certificate of Review

ACTION: Notice of Application To Amend the Export Trade Certificate of Review Held by Ginseng Board of Wisconsin, Inc., Application No. 01-1A001.

SUMMARY: The Secretary of Commerce, through the International Trade Administration, Office of Trade and Economic Analysis (“OTEA”), received an application to amend the Export Trade Certificate of Review (“Certificate”) held by Ginseng Board of Wisconsin, Inc. (“GBW”). This notice summarizes the proposed amendment and seeks public comments on whether the amended Certificate should be issued.

FOR FURTHER INFORMATION CONTACT: Joseph Flynn, Director, Office of Trade and Economic Analysis, International Trade Administration, by telephone at (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the amended Certificate. Comments should refer to this application as “Export Trade Certificate of Review, application number 01-1A001.”

A summary of the current application follows.

Summary of the Application

Applicant: Ginseng & Herb Cooperative, 3899 Co Rd B, Marathon, WI 54448.

Contact: Glenn Heier, President, (715) 443-3355.

Application No.: 01-1A001.

Date Deemed Submitted: July 18, 2018.

Proposed Amendment: GBW (the Certificate holder) and Ginseng & Herb Cooperative (“GHC”; currently a Member) seek to amend the Certificate as follows:

1. Remove GBW as the Certificate holder and issue the Certificate to GHC,

2. Remove all references to GBW and the GBW Seal,

3. Remove all references to Members,

4. Remove all references to Mechthild Handke,

5. Remove all references to Ginseng Research Institute of America, Inc. (“GRIA”), and

6. Remove reference to the supplier lottery.

Additionally, GHC seeks to change the list of Products under the Export Trade section of the Certificate from “cultivated ginseng and cultivated ginseng products; cultivated golden seal and cultivated golden seal products; cultivated echinacea and cultivated echinacea products” to “cultivated ginseng and cultivated ginseng products, including wholesale ginseng roots, ginseng capsules 500 mg, ginseng slices, ginseng tea, ginseng powder and fiber, and ginseng retail root.”

The Export Trade Activities and Methods of Operation currently covered by the Certificate as published in the Federal Register on January 31, 2001 (66 FR 8386) will be amended consistent with the above listed proposed changes.

Dated: July 27, 2018.
Joseph Flynn,
Director, Office of Trade and Economic Analysis, International Trade Administration

[FR Doc. 2018-16486 Filed 7-31-18; 8:45 am]

BILLING CODE 3510-DR-P